DEPARTMENT OF DEFENSE

Notice of Intent To Prepare a Draft Environmental Assessment for Beddown of Training and Support Initiatives at Northwest Field, Andersen Air Force Base, Guam (U.S. Territory)

AGENCY: United States Air Force.

SUMMARY: Pursuant to the National Environmental Policy Act (NEPA) of 1969, as amended (42 United States Code 4321, et seq.), the Council on Environmental Quality Regulations for implementing the procedural provisions of NEPA (40 Code of Federal Regulations (CFR) parts 1500-1508), and Air Force's Environmental Impact Analysis Process (EIAP) as implemented by 32 CFR part 989, the United States Air Force (Air Force) is issuing this notice to advise the public of our preparation of an Environmental Assessment (EA) for Beddown of Training and Support Initiatives at Northwest Field, Andersen Air Force Base (AFB), Guam. The EA will analyze and evaluate the effects of alternatives for the proposed basing of training and support initiatives at Northwest Field. The Air Force evaluated various initial basing alternatives early in the planning process. Suitable installations were identified during this process, with Andersen AFB emerging as the alternative best meeting the underlying purpose and need for the action. Consequently, Andersen AFB is being considered as the Proposed Action. The proposed action would support the Nation's military deployable engineering, security and communications units in the Pacific Command and worldwide. The proposed action would enable engineers to train with security and communications functions at a common location, with a combat deployable civil engineering unit being relocated with security forces and combat communications at the same location. It is estimated that approximately 400 additional military, civilian and contractor personnel would be required to support the proposal. The action would result in facility construction, addition, and alteration projects to support basing and operation.

This notice is being provided to obtain suggestions and information from other agencies and the public on the scope of issues to be addressed in the EA, to include alternatives to the proposal and the potential for significant impacts. A public scoping meeting will be held to provide agencies and the public the opportunity to address the scope of the EA. The EA will end with either a Finding of No Significant Impact or a determination that an Environmental Impact Statement (EIS) is required. This scoping process may be used to scope for the EIS, should an EIS be deemed appropriate.

The Air Force will conduct a public scoping meeting from 6:30 to 8:30 p.m., Thursday, March 31, 2005 at the University of Guam, College of Arts and Science, Lecture Hall B, in Mangilao, Guam. Public comments on the scope of the Draft EA, reasonable alternatives that should be considered, anticipated environmental concerns, and actions that might be taken to address these issues are requested. Written comments will also be accepted at the address listed below.

FOR FURTHER INFORMATION CONTACT: All comments received at the meeting, and all written comments received by May 8, 2005 will be considered in preparing the Draft EA. Please submit written comments to Mr. Scott Whittaker, Environmental Flight Chief, Unit 14007, APO AP 96543-4007, Facsimile (671) 388-5088. For further information, please call (671) 388-2556.

Albert Bodnar,
Federal Register Liaison Officer.

[FR Doc. 05-5024 Filed 3-14-05; 8:45 am]

BILLING CODE 5001-05-P